COMMISSION ON CIVIL RIGHTS

Agenda and Notice of Public Meetings of the New Jersey Advisory Committee

AGENCY: Commission on Civil Rights.

ACTION: Announcement of meetings.

SUMMARY: Notice is hereby given, pursuant to the provisions of the rules and regulations of the U.S. Commission on Civil Rights (Commission), and the Federal Advisory Committee Act (FACA), that four meetings of the New Jersey Advisory Committee to the Commission will each convene by conference call. Each will be a briefing to be held on the following dates and times: Thursday, November 12 at 3:15 p.m. (ET); Tuesday, November 17 at 2:15 p.m. (ET); Wednesday, November 18 2:15 p.m. (ET); and Thursday, November 19, 2020 at 2:15 p.m. (ET). Each briefing will hear from a panel of invited experts on the collateral consequences that a criminal record has on either asset forfeiture or access to employment-occupational licenses in New Jersey.

DATES:

• Thursday, November 12, 2020 at 3:15 p.m. (ET). Topic: Criminal Records and Access to Employment & Occupational Licenses in New Jersey;

• Wednesday, November 18, 2020 at 2:15 p.m. (ET). Topic: Legal Process of Asset Forfeiture in New Jersey;

• Wednesday, November 18, 2020 at 2:15 p.m. (ET). Topic: Criminal Records: Civil Rights Impacts on Access to Employment-Occupational Licenses in New Jersey;

• Thursday, November 19, 2020 at 2:15 p.m. (ET). Topic: Civil Rights Testimonials on Asset Forfeiture in New Jersey.

FOR FURTHER INFORMATION CONTACT: Ivy L. Davis, at ero@usccr.gov or by phone at 202-376-7533.

SUPPLEMENTARY INFORMATION:

Public Call-In Information for All Briefings: Conference call number: 1-800-667-5617 and conference call ID number: 7386659.

Virtual Platform Information: Please contact Evelyn Bohor at ero@usccr.gov at least five calendar days before each scheduled meeting to determine if video conference will be available for that particular meeting.

Interested members of the public may listen to the discussion by calling the following toll-free conference call number: 1-800-667-5617 and conference call ID number: 7386659. Please be advised that before placing them into the conference calls, the conference call operator may ask callers to provide their names, their organizational affiliations, if any, and email addresses, so that callers may be notified of the Committee's future meetings and activities. Callers can expect to incur charges for calls they initiate over wireless lines, and the Commission will not refund any incurred charges. Callers will incur no charge for calls they initiate over land-line connections to the toll-free telephone number herein.

Individuals who are deaf, deafblind and hard of hearing may also follow the proceedings by first calling the Federal Relay Service at 1-800-877-8339 and providing the Federal Relay Service operator with the conference call-in numbers: 1-800-667-5617 and conference call ID number: 7386659.

Each panel presentation will run for approximately two-hours. At the conclusion of each panel presentation, interested members of the public will be invited to make brief statements during the Public Comment section of each meeting or to submit written comments. The comments must be received in the regional office approximately 30 days after each scheduled meeting via email to Ivy Davis at ero@usccr.gov.

Records and documents discussed during the meeting will be available for public viewing, as they become available, at www.facadatabase.gov. Persons interested in the work of this advisory committee may go to the Commission's website, www.usccr.gov, or to contact the Eastern Regional Office at the above email address.

Agenda for: Thursday, November 12 at 3:15 p.m. (ET); Tuesday, November 17 at 2:15 p.m. (ET); Wednesday, November 18 at 2:15 p.m. (ET); and Thursday, November 19, 2020 at 2:15 p.m. (ET)

I. Roll Call

II. Welcome

III. Briefing on Collateral Consequences that a Criminal Record has on either Asset Forfeiture or access to Employment-Occupational Licensing in New Jersey.

IV. Public Comments. Immediately following the conclusion of each meeting.

V. Adjourn

Dated: October 23, 2020.
David Mussatt,
Supervisory Chief, Regional Programs Unit.

[FR Doc. 2020-23931 Filed 10-28-20; 8:45 am]

BILLING CODE 6335-01-P